DEPARTMENT OF ENERGY

Federal Energy Regulatory Commission

[Project Nos. 1975-102; 2061-086]

Idaho Power Company; Notice of Availability of Final Environmental Assessment

In accordance with the National Environmental Policy Act of 1969 and the Federal Energy Regulatory Commission's (Commission or FERC) regulations, 18 CFR part 380, Commission staff has reviewed the applications for amendment of the licenses for the Bliss Project (FERC No. 1975) and Lower Salmon Falls Project (FERC No. 2061) and has prepared a Final Environmental Assessment. The projects are located on the Snake River in Gooding, Twin Falls, and Elmore Counties, Idaho. Both projects occupy lands managed by the Bureau of Land Management. The Lower Salmon Falls Project also occupies lands within the Hagerman Fossil Beds National Monument managed by the National Park Service.

The Final Environmental Assessment contains the Commission staff's analysis of the potential environmental effects of the proposed change from run-of-river to load-following operations of the projects and concludes that authorizing the amendments, with appropriate environmental protective measures would not constitute a major federal action that would significantly affect the quality of the human environment.

A copy of the Final Environmental Assessment is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY contact (202) 502-8695.

You may register online at http://www.ferc.gov/docs-filing/esubscription.asp to be notified via email of new filings and issuances related to this or other pending projects. For assistance, contact FERC Online Support. For further information, contact Rachel Price by telephone at 202-502-8907 or by email at Rachel.Price@ferc.gov.

Dated: March 14, 2013.
Kimberly D. Bose,
Secretary.

[FR Doc. 2013-06462 Filed 3-20-13; 8:45 am]

BILLING CODE 6717-01-P